DEPARTMENT OF COMMERCE

International Trade Administration

[A-484-803]

Large Diameter Welded Pipe From Greece: Rescission of Antidumping Duty Administrative Review: 2022-2023

AGENCY: Enforcement and Compliance, International Trade Administration, Department of Commerce.

SUMMARY: The U.S. Department of Commerce (Commerce) is rescinding the administrative review of the antidumping duty (AD) order on large diameter welded pipe (LDWP) from Greece for the period of review (POR) May 1, 2022, through April 30, 2023.

DATES: Applicable January 23, 2024.

FOR FURTHER INFORMATION CONTACT: Taylor Hatley, AD/CVD Operations, Office II, Enforcement and Compliance, International Trade Administration, U.S. Department of Commerce, 1401 Constitution Avenue NW, Washington, DC 20230; telephone: (202) 482-4886.

SUPPLEMENTARY INFORMATION:

Background

On May 2, 2023, Commerce published in the Federal Register a notice of opportunity to request an administrative review of the AD order on LDWP from Greece.¹ On May 30, 2023, the American Line Pipe Producers Association Trade Committee (the petitioner) submitted a timely request that Commerce conduct an administrative review.²

¹ See Antidumping or Countervailing Duty Order, Finding, or Suspended Investigation; Opportunity to Request Administrative Review and Join Annual Inquiry Service List, 88 FR 27445 (May 2, 2023).

² See Petitioner's Letter, “Request for Administrative Review,” dated May 30, 2023.

On July 12, 2023, Commerce published in the Federal Register a notice of initiation of administrative review with respect to imports of LDWP from Greece exported and/or produced by Corinth Pipeworks Pipe Industry S.A. (Corinth), in accordance with section 751(a) of the Tariff Act of 1930, as amended (the Act), and 19 CFR 351.221(c)(1)(i).³ On July 14, 2023, we placed on the record U.S. Customs and Border Protection (CBP) data for entries of LDWP from Greece during the POR, showing no reviewable POR entries and invited interested parties to comment.⁴

³ See Initiation of Antidumping and Countervailing Duty Administrative Reviews, 88 FR 44262 (July 12, 2023).

⁴ See Memorandum, “Release of Customs and Border Protection Data,” dated July 14, 2023.

On July 21, 2023, the petitioner filed comments with respect to the CBP data.⁵ On July 24, 2023, Corinth submitted a no-shipment certification, indicating that it had no exports or sales of subject merchandise to the United States during the POR.⁶ On July 25, 2023, Commerce issued a no-shipment inquiry to CBP.⁷ On August 14, 2023, CBP responded that it had no record of any entries of subject merchandise during the POR.⁸ On October 20, 2023, the petitioner requested that Commerce conduct verification.⁹ On October 30, 2023, Corinth requested that Commerce rescind the administrative review.¹⁰

⁵ See Petitioner's Letter, “Comments on U.S. Customs and Border Protection Entry Data,” dated July 21, 2023 (Petitioner's CBP data Comments).

⁶ See Corinth's Letter, “No Shipment Certification of CPW,” dated July 24, 2023.

⁷ See CBP Message 3206404, “No Shipment Inquiry,” dated July 25, 2023.

⁸ See Memorandum, “No Shipment Inquiry Results,” dated August 14, 2023.

⁹ See Petitioner's Letter, “Request for Verification,” dated October 20, 2023.

¹⁰ See Corinth's Letter, “Request for Rescission of Administrative Review,” dated October 30, 2023.

On January 3, 2024, Commerce notified all interested parties of its intent to rescind the instant review in whole because there were no reviewable, suspended entries of subject merchandise by Corinth,¹¹ the sole company subject to this review during the POR, and invited interested parties to comment.¹² On January 10, 2024, Corinth submitted comments in support of Commerce's intent to rescind the instant review in whole.¹³

¹¹ Commerce does not consider non-CBP information to identify entries of subject merchandise because this information is generally not as reliable as information obtained from CBP. See Certain Frozen Fish Fillets from the Socialist Republic of Vietnam: Final Results of Antidumping Duty Administrative Review; Final Determination of No Shipments; 2020-2021, 87 FR 55996 (September 13, 2022), and accompanying Issues and Decision Memorandum at 5. Based on our examination of record evidence, we find that the information submitted in the petitioner's CBP Data Comments does not demonstrate that Corinth exported subject merchandise to the United States during the POR or otherwise undermine the results of the CBP data query or the certified statement by Corinth that it had no entries of subject merchandise during the POR.

¹² See Commerce's Letter, “Notice of Intent to Rescind Review,” dated January 3, 2023.

¹³ See Corinth's Letter, “Comments of Notice of Intent to Rescind Review,” dated January 10, 2024.

Rescission of Review

Pursuant to 19 CFR 351.213(d)(3), it is Commerce's practice to rescind an administrative review of an AD order when there are no reviewable entries of subject merchandise during the POR for which liquidation is suspended.¹⁴ Normally, upon completion of an administrative review, the suspended entries are liquidated at the AD assessment rate calculated for the review period.¹⁵ Therefore, for an administrative review to be conducted, there must be a reviewable, suspended entry that Commerce can instruct CBP to liquidate at the AD assessment rate calculated for the review period.¹⁶ As noted above, there were no entries of subject merchandise for Corinth, the sole company subject to this review during the POR. Accordingly, in the absence of suspended entries of subject merchandise during the POR, we are hereby rescinding this administrative review, in its entirety, in accordance with 19 CFR 351.213(d)(3).

¹⁴ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹⁵ See 19 CFR 351.212(b)(1).

¹⁶ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: January 17, 2024.
James Maeder,
Deputy Assistant Secretary for Antidumping and Countervailing Duty Operations.

[FR Doc. 2024-01149 Filed 1-22-24; 8:45 am]

BILLING CODE 3510-DS-P